DEPARTMENT OF AGRICULTURE

Animal and Plant Health Inspection Service

[Docket No. APHIS-2022-0006]

Notice of Request for Revision to and Extension of Approval of an Information Collection; Horse Protection Regulations; Correction

AGENCY: Animal and Plant Health Inspection Service, USDA.

ACTION: Revision to and extension of approval of an information collection; comment request; correction.

SUMMARY: The Animal and Plant Health Inspection Service (APHIS) is correcting a notice that was published in the Federal Register on March 8, 2022. The notice announced APHIS' intention to request a revision to and extension of approval of an information collection associated with the Horse Protection Program and enforcement of the Horse Protection Act. We provided an invalid telephone number for one of the contacts listed under FOR FURTHER INFORMATION CONTACT. This notice provides the correct telephone number.

DATES: This correction is applicable on March 29, 2022.

FOR FURTHER INFORMATION CONTACT:

Correction

In FR Doc. 2022-04791, appearing on page 12927 in the Federal Register of March 8, 2022, the following correction is made:

FOR FURTHER INFORMATION CONTACT: For information on the Horse Protection Act Regulations, contact Dr. Lance Bassage, Director, National Policy Staff, Animal Care, APHIS 4700 River Road Unit 84, Riverdale, MD 20737; (301) 851-3748. For information on the information collection reporting process, contact Mr. Joseph Moxey, APHIS' Paperwork Reduction Act Coordinator, at (301) 851-2483; joseph.moxey@usda.gov.

Done in Washington, DC, this 23rd day of March 2022.
Anthony Shea,
Administrator, Animal and Plant Health Inspection Service.

[FR Doc. 2022-06489 Filed 3-28-22; 8:45 am]

BILLING CODE 3410-34-P